DEPARTMENT OF ENERGY

Federal Energy Regulatory Commission

[Docket Nos. EL17-89-000; EL19-60-000]

American Electric Power Service Corporation v. Midcontinent Independent System Operator, Inc. Southwest Power Pool, Inc.; City of Prescott, Arkansas v. Southwestern Electric Power Company Midcontinent Independent System Operator, Inc.; Notice of Technical Conference

By order dated August 27, 2020,¹ the Commission directed Commission staff to convene a technical conference regarding issues raised in these dockets about the extent of overlapping congestion charges assessed on pseudo-tie transactions at the Midcontinent Independent System Operator, Inc. (MISO)/Southwest Power Pool, Inc. (SPP) interface and possible measures that could be taken to eliminate any such overlapping charges. Take notice that Commission staff will hold this technical conference remotely, as further described below, on Tuesday, November 10, 2020, beginning at 9:00 a.m. (Eastern Time). Commissioners may participate in the technical conference.

¹ Am. Elec. Power Serv. Corp. v. Midcontinent Indep. Sys. Operator, Inc., 172 FERC ¶ 61,163 (2020) (August 2020 Further Briefing Order).

The conference will include discussions between Commission staff, MISO, SPP, American Electric Power Service Corporation, and the City of Prescott, Arkansas. These parties should be prepared to discuss the record in this proceeding, particularly the questions posed in the August 2020 Further Briefing Order and the briefs responding thereto. If time permits, there may be an opportunity for attendees to the technical conference to submit questions for discussion among the parties during the technical conference. Following the technical conference, parties to these proceedings may submit written post-technical conference comments on or before December 8, 2020, which will be included in the formal record of the proceeding.

Further details of this technical conference, including an agenda, will be provided in a supplemental notice after receipt of the briefs directed in the August 2020 Further Briefing Order. Procedures to be followed at the technical conference and any changes to the proposed agenda will be announced by staff at the opening of the technical conference. The technical conference will be transcribed.

The technical conference is open to the public. Representatives of those parties identified above and other individuals wishing to attend the technical conference must register no later than noon on October 30, 2020, at the following link: https://ferc.webex.com/ferc/onstage/g.php?MTID=ea7efc32ce32813a883c638047dce4471. Information on joining the technical conference will be posted on the Events Calendar on the Commission's website available at https://www.ferc.gov/news-events/events.

Commission conferences are accessible under section 508 of the Rehabilitation Act of 1973. For accessibility accommodations, please send an email to accessibility@ferc.gov or call toll free 1-866-208-3372 (voice) or 202-502-8659 (TTY); or send a fax to 202-208-2106 with the required accommodations.

For more information about this technical conference, please contact Yasmine Jamnejad, yasmine.jamnejad@ferc.gov for technical information, and Colin Beckman, colin.beckman@ferc.gov, for legal information. For information related to logistics, please contact Sarah McKinley, 202-502-8368, sarah.mckinley@ferc.gov.

Dated: October 1, 2020.
Kimberly D. Bose,
Secretary.

[FR Doc. 2020-22160 Filed 10-6-20; 8:45 am]

BILLING CODE 6717-01-P